DEPARTMENT OF AGRICULTURE

Natural Resources Conservation Service

Little Wood River Irrigation District Gravity Pressurized Delivery System; Blaine County, ID

AGENCY: Natural Resources Conservation Service, USDA.

ACTION: Notice of Availability of Record of Decision (ROD).

SUMMARY: Pursuant to Section 102(2)(C) of the National Environmental Policy Act of 1969; the Council on Environmental Quality Guidelines (40 CFR part 1500); and the Natural Resources Conservation Service Guidelines (7 CFR part 650); the Natural Resources Conservation Service (NRCS), U.S. Department of Agriculture (USDA), gives notice that the record of decision (ROD) for the Final Environmental Impact Statement (FEIS) for the Little Wood River Irrigation District Gravity Pressurized Delivery System, Blaine County, Idaho is available. The ROD was signed and made available via the USDA NRCS Idaho Web site (http://www.id.nrcs.usda.gov.) on November 7, 2006. A Notice of Availability of the Final Environmental Impact Statement (FEIS) dated April 26, 2004, was published in the Federal Register on May 4, 2004.

FOR FURTHER INFORMATION CONTACT: Richard Sims, State Conservationist, Natural Resources Conservation Service, 9173 W. Barnes Dr. Suite C, Boise, Idaho, 83709; telephone (208) 378-5700.

SUPPLEMENTARY INFORMATION: The Little Wood River Irrigation District proposes to convert the present open irrigation canal delivery system that serves farmland in the Little Wood River valley surrounding Carey City, Blaine County, Idaho, to a closed gravity pressurized irrigation pipeline system. The Natural Resources Conservation Service prepared an Environmental Impact Statement for the proposed project. NRCS has selected Alternative 2—Gravity Pressurized Irrigation Delivery System with On-Farm Irrigation Systems as the Preferred Alternative for implementation. This Alternative includes conversion of the present open irrigation canal delivery system to a closed gravity pressurized irrigation pipeline system.

The purpose and need of this action is to maximize the conservation and use of irrigation water and the energy required to irrigate all of the existing cropland within the project area by providing a reliable water supply, reducing water losses due to seepage in the existing canal delivery system and providing economic stability to the local area.

Three alternatives, including the No Action Alternative, were fully developed and analyzed in the FEIS to address significant issues. The full range of foreseeable environmental consequences was assessed. Among the alternatives considered the preferred alternative best provides a combination of limiting impacts and providing needed enhancements.

The record of decision includes a statement of the decision made, synopses of other alternatives considered, the basis for the decision, the identification of the environmentally preferred alternative, and the rationale for why the environmentally preferred alternative was not the selected action.

The ROD and other NEPA documents are available on the Idaho NRCS Web site at http://www.id.nrcs.usda.gov or by contacting the NRCS at the address provided above.

Dated: November 7, 2006.
Richard Sims,
State Conservationist, USDA, NRCS, Idaho.

[FR Doc. E6-19480 Filed 11-16-06; 8:45 am]

BILLING CODE 3410-16-P